DEPARTMENT OF ENERGY

Federal Energy Regulatory Commission

Notice of FERC Staff Attendance at the Entergy Regional State Committee Meeting

The Federal Energy Regulatory Commission hereby gives notice that members of its staff may attend the meeting noted below. Their attendance is part of the Commission's ongoing outreach efforts.

Entergy Regional State Committee Meeting

February 29, 2012 (1 pm-5 pm),

March 1, 2012 (8 am-12 pm).

This meeting will be held at the Astor Crowne Plaza Hotel, 739 Canal Street, New Orleans, LA 70130. The hotel phone number is 504-962-0500.

The discussions may address matters at issue in the following proceedings:

Docket No. OA07-32 | Entergy Services, Inc.
Docket No. EL00-66 | Louisiana Public Service Commission v. Entergy Services, Inc.
Docket No. EL01-88 | Louisiana Public Service Commission v. Entergy Services, Inc.
Docket No. EL07-52 | Louisiana Public Service Commission v. Entergy Services, Inc.
Docket No. EL08-51 | Louisiana Public Service Commission v. Entergy Services, Inc.
Docket No. EL08-60 | Ameren Services Co. v. Entergy Services, Inc.
Docket No. EL09-43 | Arkansas Public Service Commission v. Entergy Services, Inc.
Docket No. EL09-50 | Louisiana Public Service Commission v. Entergy Services, Inc.
Docket No. EL09-61 | Louisiana Public Service Commission v. Entergy Services, Inc.
Docket No. EL10-55 | Louisiana Public Service Commission v. Entergy Services, Inc.
Docket No. EL10-65 | Louisiana Public Service Commission v. Entergy Services, Inc.
Docket No. EL11-34 | Midwest Independent System Transmission Operator, Inc.
Docket No. ER05-1065 | Entergy Services, Inc.
Docket No. ER07-682 | Entergy Services, Inc.
Docket No. ER07-956 | Entergy Services, Inc.
Docket No. ER08-1056 | Entergy Services, Inc.
Docket No. ER09-833 | Entergy Services, Inc.
Docket No. ER09-1224 | Entergy Services, Inc.
Docket No. ER10-794 | Entergy Services, Inc.
Docket No. ER10-1350 | Entergy Services, Inc.
Docket No. ER10-1676 | Entergy Services, Inc.
Docket No. ER10-2001 | Entergy Arkansas, Inc.
Docket No. ER10-3357 | Entergy Arkansas, Inc.
Docket No. ER11-2131 | Entergy Arkansas, Inc.
Docket No. ER11-2132 | Entergy Gulf States, Louisiana, LLC.
Docket No. ER11-2133 | Entergy Gulf States, Louisiana, LLC.
Docket No. ER11-2134 | Entergy Mississippi, Inc.
Docket No. ER11-2135 | Entergy New Orleans, Inc.
Docket No. ER11-2136 | Entergy Texas, Inc.
Docket No. ER11-3156 | Entergy Arkansas, Inc.
Docket No. ER11-3657 | Entergy Arkansas, Inc.
Docket No. ER12-480 | Midwest Independent Transmission System Operator, Inc.

These meetings are open to the public.

For more information, contact Patrick Clarey, Office of Energy Market Regulation, Federal Energy Regulatory Commission at (317) 249-5937 or patrick.clarey@ferc.gov.

Dated: February 22, 2012.
Kimberly D. Bose,
Secretary.

[FR Doc. 2012-4773 Filed 2-28-12; 8:45 am]

BILLING CODE 6717-01-P